NORTHEAST DAIRY COMPACT COMMISSION

Notice of Meeting

AGENCY: Northeast Dairy Compact Commission.

ACTION: Notice of Meeting.

SUMMARY: The Compact Commission will hold its regular monthly meeting to consider matters relating to administration and enforcement of the price regulation, the budget for year 2001, and the election of officers.

DATES: The meeting will begin at 10:00 a.m. on Wednesday, December 6, 2000.

ADDRESSES: The meeting will be held at the Centennial Inn, Armenia White Room, 96 Pleasant Street, Concord, New Hampshire.

FOR FURTHER INFORMATION CONTACT: Daniel Smith, Executive Director, Northeast Dairy Compact Commission, 34 Barre Street, Suite 2, Montpelier, VT 05602. Telephone (802) 229-1941.

Authority: 7 U.S.C. 7256.

Dated: November 20, 2000.
Daniel Smith,
Executive Director.

[FR Doc. 00-30118 Filed 11-24-00; 8:45 am]

BILLING CODE 1650-01-P